DEPARTMENT OF COMMERCE

National Oceanic and Atmospheric Administration

[I.D. 032007B]

National Artificial Reef Plan (as Amended): Guidelines for Siting, Construction, Development, and Assessment of Artificial Reefs

AGENCY: National Marine Fisheries Service (NMFS), National Oceanic and Atmospheric Administration (NOAA), Commerce.

ACTION: Notice of agency decision.

SUMMARY: The National Artificial Reef Plan (NOAA Technical Memorandum, NMFS OF-6) was originally published in November 1985, in fulfillment of a requirement under the National Fishing Enhancement Act of 1984. NMFS worked in partnership with the Atlantic States Marine Fisheries Commission and the Gulf States Marine Fisheries Commission to update and revise this plan. A revised version has been completed, entitled the “National Artificial Reef Plan (as Amended): Guidelines for siting, construction, development, and assessment of artificial reefs.” This action is intended to promote the goals and objectives outlined in the National Fishing Enhancement Act.

DATES: The revised National Artificial Reef Plan (National Plan) was approved on March 7, 2007.

ADDRESSES: Copies of the “National Artificial Reef Plan (as Amended): Guidelines for siting, construction, development, and assessment of artificial reefs” are available from Christopher M. Moore, Director of the Partnerships and Communications Division, Office of Sustainable Fisheries, National Marine Fisheries Service, 1315 East-West Highway, Silver Spring, MD 20910.

FOR FURTHER INFORMATION CONTACT: Christopher M. Moore, (301) 713-2379 ext. 165; fax (301) 713-0596.

SUPPLEMENTARY INFORMATION: The National Artificial Reef Plan of 1985 was developed by the Secretary of Commerce under direction of the National Fishing Enhancement Act of 1984. This Act directed the Secretary of Commerce to develop and publish a long-term National Artificial Reef Plan to promote and facilitate responsible and effective artificial reef use based on the best scientific information available.

The National Plan provided guidance on various aspects of artificial reef use, including types of construction materials, planning, siting, design, and management of artificial reefs. This document was general in its scope and provided a framework for regional, state, and local planners to develop more detailed, site-specific artificial reef plans to meet local needs and conditions. The National Plan was designed to be a dynamic working document that would be updated as new information became available.

Since 1985, new information and research on artificial reefs have become available. Accordingly, NMFS has updated and revised the National Plan, in cooperation with the Atlantic States Marine Fisheries Commission and the Gulf States Marine Fisheries Commission. The National Plan was initially revised with input from state artificial reef programs and staff from the interstate marine fisheries commissions, the Minerals Management Service, and the National Marine Fisheries Service. The draft revision to the 1985 National Artificial Reef Plan was revised in response to comments that were provided through internal NOAA review and external review by the Atlantic States Marine Fisheries Commission and the Gulf States Marine Fisheries Commission.

The interstate marine fisheries commissions have been involved in the development and review of this document due to their extensive involvement and experience with state artificial reef management programs. Most coastal states have coordinated their artificial reef activities through the respective interstate marine fisheries commissions, and most interstate commissions have established technical advisory committees for marine artificial reef development. These committees are composed of the coordinators of the state marine artificial reef programs within the respective state agencies responsible for marine and coastal resources management. Committee membership also includes representatives from the National Marine Fisheries Service, U.S. Fish and Wildlife Service, Minerals Management Service, Environmental Protection Agency, and Regional Fishery Management Councils.

The revised National Plan provides information on the roles of federal, state, and local governments; interstate marine fisheries commissions; Regional Fishery Management Councils; and private citizens in artificial reef development. The document also provides guidelines for siting, materials, design, construction, and management of artificial reefs; and information on regulatory and permitting requirements, liability issues, and research needs. The revised National Plan also includes updated information on artificial reef activities and programs, and it references other useful sources of information for artificial reef development. The most significant changes occur in the section of the plan dealing with materials for artificial reef development. New language in the revised National Plan is consistent with the guidelines and recommendations of the interstate marine fisheries commissions and representatives of state artificial reef programs relative to artificial reef development.

Authority: 33 U.S.C. 2101 et seq.

Dated: March 22, 2007.
James P. Burgess,
Acting Director, Office of Sustainable Fisheries, National Marine Fisheries Service.

[FR Doc. E7-5711 Filed 3-27-07; 8:45 am]

BILLING CODE 3510-22-S